FEDERAL TRADE COMMISSION

Agency Information Collection Activities; Submission for OMB Review; Comment Request

AGENCY: Federal Trade Commission.

ACTION: Notice and request for comment.

SUMMARY: The Federal Trade Commission (FTC) requests that the Office of Management and Budget (OMB) extend for three years the current Paperwork Reduction Act (PRA) clearance for information collection requirements of its Affiliate Marketing Rule, which applies to certain motor vehicle dealers, and its shared enforcement with the Consumer Financial Protection Bureau (CFPB) of the provisions (subpart C) of the CFPB's Regulation V regarding other entities (CFPB Rule). That clearance expires on February 28, 2023.

DATES: Comments must be received by March 24, 2023.

ADDRESSES: Written comments and recommendations for the proposed information collection should be sent within 30 days of publication of this notice to www.reginfo.gov/public/do/PRAMain. Find this particular information collection by selecting “Currently under 30-day Review—Open for Public Comments” or by using the search function. The reginfo.gov web link is a United States Government website produced by OMB and the General Services Administration (GSA). Under PRA requirements, OMB's Office of Information and Regulatory Affairs (OIRA) reviews Federal information collections.

FOR FURTHER INFORMATION CONTACT: David Walko, Attorney, Division of Privacy and Identity Protection, Bureau of Consumer Protection, Federal Trade Commission, 600 Pennsylvania Avenue NW, Washington, DC 20580, (202) 326-2880.

SUPPLEMENTARY INFORMATION:

Title: Affiliate Marketing Rule (16 CFR part 680).

OMB Control Number: 3084-0131.

Type of Review: Extension of currently approved collection.

Likely Respondents: Motor vehicle dealers, financial institutions, trade associations.

Estimated Annual Burden: The total estimated burden is 7,795 hours and $367,176 in associated labor costs. Commission staff estimates that the capital and non-labor costs associated with the Affiliate Marketing Rule's disclosure requirements are de minimis, because covered entities can consolidate affiliate marketing notices with other notices they already provide to their customers such as notices issued pursuant to the Commission's Gramm-Leach-Bliley Act Financial Privacy Rule (16 CFR part 313). On December 8, 2022, the Commission sought comment on the disclosure requirements associated with the Rule. 87 FR 75271. No relevant comments were received. For more details about the Rule requirements, the background behind these information collection provisions, and the basis for these calculations, see 87 FR 75271 (Dec. 8, 2022).

Pursuant to the OMB regulations, 5 CFR part 1320, that implement the PRA, 44 U.S.C. 3501 et seq., the FTC is providing this second opportunity for public comment while seeking OMB approval to renew the pre-existing clearance for those information collection requirements.

Request for Comments

Your comment—including your name and your state—will be placed on the public record of this proceeding. Because your comment will be made public, you are solely responsible for making sure that your comment does not include any sensitive personal information, such as anyone's Social Security number; date of birth; driver's license number or other state identification number, or foreign country equivalent; passport number; financial account number; or credit or debit card number. You are also solely responsible for making sure that your comment does not include any sensitive health information, such as medical records or other individually identifiable health information. In addition, your comment should not include any “trade secret or any commercial or financial information which . . . is privileged or confidential”—as provided by Section 6(f) of the FTC Act, 15 U.S.C. 46(f), and FTC Rule 4.10(a)(2), 16 CFR 4.10(a)(2)—including in particular competitively sensitive information such as costs, sales statistics, inventories, formulas, patterns, devices, manufacturing processes, or customer names.

Josephine Liu,
Assistant General Counsel for Legal Counsel.

[FR Doc. 2023-03629 Filed 2-21-23; 8:45 am]

BILLING CODE 6750-01-P